DEPARTMENT OF COMMERCE

National Oceanic and Atmospheric Administration

[I.D. 082504B]

Fisheries of the Caribbean, Gulf of Mexico, and South Atlantic; Draft Generic Amendment to Gulf of Mexico Fishery Management Plans for Offshore Aquaculture

AGENCY: National Marine Fisheries Service (NMFS), National Oceanic and Atmospheric Administration (NOAA), Commerce.

ACTION: Notice of intent to prepare a draft supplemental environmental impact statement; request for comments.

SUMMARY: The Gulf of Mexico Fishery Management Council (Council) and NMFS intend to prepare a draft supplemental environmental impact statement (DSEIS) in support of a proposed Generic Amendment for Offshore Aquaculture. The DSEIS will evaluate alternatives for regulating aquaculture activities in the Gulf of Mexico. The purpose of this notice of intent is to solicit public comments on the range of alternatives and scope of issues to be addressed in the DSEIS.

DATES: Written comments on the scope of the DSEIS must be received by 5 p.m. October 4, 2004. See the SUPPLEMENTARY INFORMATION section for additional information regarding oral comments.

ADDRESSES: Comments on the scope of the DSEIS and requests for the scoping document may be directed to the Gulf of Mexico Fishery Management Council, The Commons at Rivergate, 3018 U.S. Highway 301 North, Suite 1000, Tampa, FL 33619; telephone: 813-228-2815; fax: 813-225-7015. Comments also may be submitted via e-mail. The mailbox address for providing e-mail comments is aquaculture.gulf@noaa.gov. Include in the subject line of the e-mail comment the following document identifier: Generic Amendment for Offshore Aquaculture. Scoping documents are also available to download at http://www.gulfcouncil.org.

FOR FURTHER INFORMATION CONTACT: Wayne Swingle (phone: 813-228-2815, fax: 813-225-7015, e-mail: Wayne.Swingle@gulfcouncil.org); Andy Strelcheck (phone: 727-570-5305, fax: 727-570-5583, e-mail: Andy.Strelcheck@noaa.gov); or visit the Council's web page at http://www.gulfcouncil.org.

SUPPLEMENTARY INFORMATION: The Council and NMFS intend to prepare a DSEIS in support of a proposed Generic Amendment for Offshore Aquaculture. The DSEIS will evaluate alternatives for regulating aquaculture activities in the Gulf of Mexico, including: (1) Whether to implement a generic amendment for offshore aquaculture, (2) the overall scope of the generic amendment, (3) permit and operational requirements for aquaculture facilities, (4) fishery management plans that would be affected by the amendment, and (5) stocks that would be affected by the amendment. The DSEIS will also evaluate: best management practices for cage and net-pen facilities, scientific information on the culture of marine fish, and the environmental effects of aquaculture. Alternatives currently under consideration are described in detail in “The Scoping Document for a Generic Amendment to Provide for Regulation of Offshore Marine Aquaculture for Selected Fish.” The Council is soliciting public comment on the range of alternatives and scope of issues that should be considered in the DSEIS. Persons may request a copy of the scoping document from the Council (see ADDRESSES for contact information).

In accordance with NOAA Administrative Order (NAO) 216-6, Section 502(c)4, the Council previously held eight scoping hearings during February and March 2004 (69 FR 7185) to solicit input from interested parties on proposed actions and alternatives identified in the above-mentioned scoping document. The hearings were held in the following locations: Biloxi, MS; Corpus Christi, TX; Galveston, TX; Key West, FL; Larose, LA; Madeira Beach, FL; Mobile, AL; and Panama City, FL.

Additionally, public comments may be accepted at the following Council meetings and during public hearings that will be announced in future Federal Register notices:

1. September 13-17, 2004, Edgewater Beach Resort, 11212 Front Beach Road, Panama City, FL 32407.

2. November 7-10, 2004, Sheraton, 310 Padre Boulevard, South Padre Island, TX 78597.

3. January 10-13, 2005, Sheraton, 102 France Street, Baton Rouge, LA 70802.

4. March 7-10, 2005, Wynfrey, 100 Riverchase Galleria, Birmingham, AL 35244.

The meetings will be physically accessible to people with disabilities. Requests for sign language interpretation or other auxiliary aids should be directed to Wayne Swingle at the Council (see ADDRESSES).

The completed DSEIS associated with the draft Generic Amendment for Offshore Aquaculture will be filed with the Environmental Protection Agency (EPA), announced in the Federal Register, and open to public comment for a 45-day period. This procedure is pursuant to regulations issued by the Council on Environmental Quality (CEQ) for implementing the National Environmental Policy Act (NEPA) (and to NAO 216-6 on complying with NEPA and the CEQ regulations).

The Council will consider public comments received on the DSEIS in developing the final supplemental environmental impact statement (FSEIS), and will consider public comments before taking final action on the Generic Amendment for Offshore Aquaculture. The Council will submit both the final amendment and the supporting FSEIS to NMFS for Secretarial review, approval, and implementation under the requirements of the Magnuson-Stevens Fishery Conservation and Management Act.

NMFS will announce, through a notice published in the Federal Register, the availability of the final Generic Amendment for Offshore Aquaculture for public review during the Secretarial review period. During Secretarial review, NMFS will also file the FSEIS with the EPA for a final 30-day public comment period. This comment period will be concurrent with the Secretarial review period and will end prior to final agency action to approve, disapprove, or partially approve the final Generic Amendment for Offshore Aquaculture.

NMFS will announce, through a notice published in the Federal Register, all public comment periods on the final Generic Amendment for Offshore Aquaculture, any proposed implementing regulations, and its associated FSEIS. NMFS will consider all public comments received during the Secretarial review period, whether they are on the final Amendment, any proposed regulations, or the FSEIS, prior to final agency action.

Dated: August 30, 2004.
Alan D. Risenhoover,
Acting Director, Office of Sustainable Fisheries, National Marine Fisheries Service.

[FR Doc. 04-20055 Filed 9-1-04; 8:45 am]

BILLING CODE 3510-22-S